DEPARTMENT OF COMMERCE

Foreign-Trade Zones Board

[B-6-2023]

Foreign-Trade Zone (FTZ) 30; Authorization of Limited Production Activity; Albion Laboratories, Inc.; (Mineral Amino Acid Chelates); Ogden, Utah

On January 13, 2023, Albion Laboratories, Inc. submitted a notification of proposed production activity to the FTZ Board for its facilities within Subzone 30E, in Ogden, Utah.

The notification was processed in accordance with the regulations of the FTZ Board (15 CFR part 400), including notice in the Federal Register inviting public comment (88 FR 4152, January 24, 2023). On May 15, 2023, the applicant was notified of the FTZ Board's decision that further review of part of the proposed activity is warranted. The FTZ Board authorized the production activity described in the notification on a limited basis, subject to the FTZ Act and the Board's regulations, including section 400.14, with further review warranted prior to the potential use of glycine as a foreign status component.

Dated: May 15, 2023.
Elizabeth Whiteman,
Executive Secretary.

[FR Doc. 2023-10708 Filed 5-18-23; 8:45 am]

BILLING CODE 3510-DS-P